FEDERAL MARITIME COMMISSION

Ocean Transportation Intermediary License; Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier and Ocean Freight Forwarder Transportation Intermediary Applicant:

Transatlantic Shipping, Inc., 1005 W. Arbor Vitae Street, Inglewood, CA 90301. Officers: Abdul Rezak Morgan Farah, President, (Qualifying Individual), Omer M. Hussen, Operations Manager.

Ocean Freight Forwarder—Ocean Transportation Intermediary Applicant:

Logistics Northwest, LLC, 4370 NE., Halsey Street, Suite #228, Portland, OR 97213. Officer: Lori Nold, President, (Qualifying Individual).

Dated: March 4, 2005.
Bryant L. VanBrakle,
Secretary.

[FR Doc. 05-4629 Filed 3-8-05; 8:45 am]

BILLING CODE 6730-01-P